NATIONAL LABOR RELATIONS BOARD

Appointments of Individuals To Serve as Members of Performance Review Boards

5 U.S.C. 4314 (c) (4) requires that the appointments of individuals to serve as members of performance review boards be published in the Federal Register. Therefore, in compliance with this requirement, notice is hereby given that the individuals whose names and position titles appear below have been appointed to serve as members of performance review boards in the National Labor Relations Board for the rating year beginning October 1, 2005 and ending September 30, 2006.

Name and Title

Harold J. Datz—Chief Counsel to the Chairman

David B. Parker—Deputy Executive Secretary

Gary W. Shinners—Deputy Chief Counsel to Board Member

John H. Ferguson—Associate General Counsel, Enforcement Litigation

Gloria Joseph—Director of Administration

Barry J. Kearney—Associate General Counsel, Advice

Dated: Washington, DC December 6, 2006.
By Direction of the Board.
Lester A. Heltzer,
Executive Secretary.

[FR Doc. E6-20984 Filed 12-8-06; 8:45 am]

BILLING CODE 7545-01-P